NATIONAL AERONAUTICS AND SPACE ADMINISTRATION

[Notice 04-097]

Notice of Prospective Patent License

AGENCY: National Aeronautics and Space Administration.

ACTION: Notice of Prospective Patent License.

SUMMARY: NASA hereby gives notice that Luna Innovations, Incorporated, of 2851 Commerce Street, Blacksburg, VA 24060, has applied for an exclusive license to practice the inventions disclosed in NASA Case Numbers LAR 16406-1 entitled “Ultrasonic Apparatus and Method to Assess Compartment Syndrome” and NASA Case No. LAR 16854-1 entitled “Method and apparatus to Assess Compartment Syndrome,” both of which U.S. Patent Applications were filed and are assigned to the United States of America as represented by the Administrator of the National Aeronautics and Space Administration. Written objections to the prospective grant of a license should be sent to NASA Langley Research Center. NASA has not yet made a determination to grant the requested license and may deny the requested license even if no objections are submitted within the comment period.

DATES: Responses to this notice must be received by August 31, 2004.

FOR FURTHER INFORMATION CONTACT: Helen Galus, Patent Attorney, Mail Stop 212, NASA Langley Research Center, Hampton, VA 23681-2199, (757) 864-3227; Fax (757) 864-9190.

Dated: August 9, 2004.
Keith T. Sefton,
Deputy General Counsel, Administration and Management.

[FR Doc. 04-18595 Filed 8-13-04; 8:45 am]

BILLING CODE 7510-01-P